DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southwest Region Logbook Family of Forms.

Form Number(s): None.

OMB Approval Number: 0648-0498.

Type of Request: Regular submission.

Burden Hours: 2,579.

Number of Respondents: 756.

Average Hours per Response: Logbook reports, 1 hour; vessel monitoring system (VMS) reports, 24 seconds; and pre-trip reports, 5 minutes.

Needs and Uses: The owners of vessels that fish out of West Coast ports for highly migratory species such as tuna, billfish, and sharks are required to submit information about their fishing activities. The National Marine Fisheries Service and the Pacific Fishery Management Council use the information to monitor the fisheries and determine the effects and effectiveness of the Fishery Management Plan (FMP) for U.S. West Coast Fisheries for Highly Migratory Species (HMS). Catch and effort statistics from logbooks are essential for evaluating if the objectives of the FMP are being achieved and for evaluating the impacts of potential changes in management to respond to new information or new problems in the fisheries. VMS units will facilitate enforcement of closures associated with the longline fishery.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 21, 2007.
Gwellnar Banks,
Management Analyst, Office of the Chief Information Officer.

[FR Doc. E7-19038 Filed 9-26-07; 8:45 am]

BILLING CODE 3510-22-P